DEPARTMENT OF THE INTERIOR

National Park Service

[NPS-WASO-NAGPRA-NPS0024413; PPWOCRADN0-PCU00RP14.R50000]

Notice of Inventory Completion: Robert S. Peabody Museum of Archaeology, Andover, MA

AGENCY: National Park Service, Interior.

ACTION: Notice.

SUMMARY: The Robert S. Peabody Museum of Archaeology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Robert S. Peabody Museum of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Museum of Archaeology at the address in this notice by March 1, 2018.

ADDRESSES: Ryan Wheeler, Robert S. Peabody Museum of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Museum of Archaeology, Andover, MA. The human remains and associated funerary objects were removed from the Swanton site (VT-FR-1) in Franklin County, VT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Robert S. Peabody Museum of Archaeology professional staff in consultation with representatives of the Aroostook Band of Micmacs (previously listed as the Aroostook Band of Micmac Indians); Houlton Band of Maliseet Indians; Passamaquoddy Tribe; Penobscot Nation (previously listed as the Penobscot Tribe of Maine); and the following non-federally recognized Indian groups: Abenaki Nation of Missisquoi, St. Francis/Sokoki Band; Elnu Tribe of the Abenaki; Koasek Traditional Band of the Koas Abenaki Nation; and Nulhegan Abenaki Tribe.

History and Description of the Remains

In the 1860s, human remains representing, at minimum, one individual were removed by Elliot Frink, H.H. Dean, L.B. Truax, John W. Brough, J.B. Perry, and others from the Swanton site (VT-FR-1) located at Highgate, near Swanton, Franklin County, VT. The site also is known as Hemp Yard, Frink cemetery, and Frink's grounds. In 1917, the human remains and associated funerary objects were given to the Phillips Academy Department of Archaeology (now the Robert S. Peabody Museum of Archaeology) by John W. Brough. Information about the site can be found in Warren K. Moorehead's 1922 book “A Report on the Archaeology of Maine” (see pages 241-257, which deal with Moorehead's Lake Champlain survey). Archeologist Stephen Loring, in his 1985 article “Boundary Maintenance, Mortuary Ceremonialism and Resource Control in the Early Woodland: Three Cemetery Sites in Vermont,” indicates that the Swanton site was first mentioned in 1868 by the Reverend J.B. Perry, following its exposure by logging, mining, and erosion activities in the early 1860s. Loring describes the Swanton site as part of an Early Woodland-era mortuary complex that included exotic funerary objects, large bifacial stone blades, and the use of red ochre. The mortuary complex is approximately 2,000 to 3,000 years old. Examination of the human remains by physical anthropologist Michael J. Gibbons in 1993 identified a subadult male, aged 17 to 20 years old at time of death, represented by fragmentary clavicle and mandible, both of which are copper stained (object ID numbers 58495 and 58496). No known individual was identified. The 66 associated funerary objects include 1 discoidal stone (16937), 1 large stemmed slate biface (58480), 1 quartz stemmed biface (58482), 1 waterworn stemmed slate biface (58483), 1 leaf-shaped chert biface (58485), 1 leaf-shaped chert biface (58486), 1 fragmentary quartz biface (58488), 1 large jasper biface (58489), 1 polishing stone of slate (58490), 1 rhyolite celt (58491), 1 groundstone celt (58492), 3 large shell beads (58493), 2 small shell beads (58494), 1 phyllite gorget (58497), 1 decorated ceramic rim sherd (58498), 1 copper drill or perforator (58499), 1 fragmentary quartz biface (58501), 4 fragmentary chipped stone tools (58503), 35 fragments of copper beads, some with preserved cordage (2017.2.1), 5 tubular beads, and 2 Common Atlantic Marginella (Prunum apicinum) beads (2017.2.2).

During consultation representatives of the Wabanaki Tribes and Abenaki groups emphasized that they considered themselves collectively to be Wabanakis, with similar languages, shared cultural histories, and common origins that extend far back to the first human occupation of the far northeastern United States and parts of Canada. Abenaki scholar Frederick Wiseman, in his book “Reclaiming the Ancestors: Decolonizing a Taken Prehistory of the Far Northeast,” presents detailed information on the interrelatedness of the Wabanaki, their distinct regional adaptations, and modern political entities. Multiple lines of evidence guided by tribal consultations, including geographic location, maps, oral tradition, linguistic, and archeological data, demonstrate a shared group identity between the human remains and associated funerary objects in this notice and the Aroostook Band of Micmacs (previously listed as the Aroostook Band of Micmac Indians); Houlton Band of Maliseet Indians; Passamaquoddy Tribe; Penobscot Nation (previously listed as the Penobscot Tribe of Maine); and the following non-federally recognized Indian groups: Abenaki Nation of Missisquoi, St. Francis/Sokoki Band; Elnu Tribe of the Abenaki; Koasek Traditional Band of the Koas Abenaki Nation; and Nulhegan Abenaki Tribe.

Determinations Made by the Robert S. Peabody Museum of Archaeology

Officials of the Robert S. Peabody Museum of Archaeology have determined that:

• Pursuant to 25 U.S.C. 3001(9), the human remains described in this notice represent the physical remains of 1 individual of Native American ancestry.

• Pursuant to 25 U.S.C. 3001(3)(A), the 66 objects described in this notice are reasonably believed to have been placed with or near individual human remains at the time of death or later as part of the death rite or ceremony.

• Pursuant to 25 U.S.C. 3001(2), there is a relationship of shared group identity that can be reasonably traced between the Native American human remains and associated funerary objects and the Aroostook Band of Micmacs (previously listed as the Aroostook Band of Micmac Indians); Houlton Band of Maliseet Indians; Passamaquoddy Tribe; and the Penobscot Nation (previously listed as the Penobscot Tribe of Maine).

Additional Requestors and Disposition

Lineal descendants or representatives of any Indian Tribe or Native Hawaiian organization not identified in this notice that wish to request transfer of control of these human remains and associated funerary objects should submit a written request with information in support of the request to Ryan Wheeler, Robert S. Peabody Museum of Archaeology, Phillips Academy, 180 Main Street, Andover, MA 01810, telephone (978) 749-4490, email rwheeler@andover.edu, by March 1, 2018. After that date, if no additional requestors have come forward, transfer of control of the human remains and associated funerary objects may proceed to the Aroostook Band of Micmacs (previously listed as the Aroostook Band of Micmac Indians); Houlton Band of Maliseet Indians; Passamaquoddy Tribe; Penobscot Nation (previously listed as the Penobscot Tribe of Maine); and, if joined to one or more of the culturally affililated tribes, any of the following non-federally recognized Indian groups: Abenaki Nation of Missisquoi, St. Francis/Sokoki Band; Elnu Tribe of the Abenaki; Koasek Traditional Band of the Koas Abenaki Nation; and Nulhegan Abenaki Tribe.

The Robert S. Peabody Museum of Archaeology is responsible for notifying the Aroostook Band of Micmacs (previously listed as the Aroostook Band of Micmac Indians); Houlton Band of Maliseet Indians; Passamaquoddy Tribe; Penobscot Nation (previously listed as the Penobscot Tribe of Maine); Abenaki Nation of Missisquoi (St. Francis/Sokoki Band), Elnu Tribe of the Abenaki, Koasek Traditional Band of the Koas Abenaki Nation, and Nulhegan Abenaki Tribe that this notice has been published.

Dated: October 5, 2017.
Melanie O'Brien,
Manager, National NAGPRA Program.

Editorial Note: This document was received at the Office of the Federal Register on January 25, 2018.

[FR Doc. 2018-01720 Filed 1-29-18; 8:45 am]

BILLING CODE 4312-52-P